NATIONAL SCIENCE FOUNDATION

Agency Information Collection Activities; Proposed Collection; Comment Request

AGENCY: National Science Foundation.

ACTION: Submission for OMB review; comment request.

SUMMARY: Under the Paperwork Reduction Act of 1995, Pub. L. 104-13 (44 U.S.C. 3501 et seq.), and as part of its continuing effort to reduce paperwork and respondent burden, the National Science Foundation (NSF) is inviting the general public and other Federal agencies to comment on this proposed information collection. This is the second notice for public comment; the first was published in the Federal Register at 66 FR 2943 and no comments were received. NSF is forwarding the proposed submission to the Office of Management and Budget (OMB) for clearance simultaneously with the publication of this second notice.

DATES: Comments regarding these information collections are best assured of having their full effect if received by OMB within 30 days of publication in the Federal Register.

ADDRESSES: Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725 17th Street, NW., Room 10235, Washington, DC 20503, and to Anita Eisenstadt, Assistant General Counsel, through surface mail (National Science Foundation, 4201 Wilson Boulevard, Room 1265, Arlington, Virginia 22230); email (aeisenst@nsf.gov) or fax (703-292-9041). Copies of the submission(s) may be obtained by calling 703-292-8060.

NSF may not conduct or sponsor a collection of information unless the collection of information displays a currently valid OMB control number and the agency informs potential persons who are to respond to the collection of information that such persons are not required to respond to the collection of information unless it displays a currently valid OMB control number.

FOR FURTHER INFORMATION CONTACT: Call or write Anita Eisenstadt, Assistant General Counsel, at the National Science Foundation, 4201 Wilson Boulevard, Room 1265, Arlington, Virginia 22230; call (703) 292-8060, or send email to aeisenst@nsf.gov.

SUPPLEMENTARY INFORMATION: Title of Collection: Antarctic emergency response plan and environmental protection information.

Abstract: The NSF, pursuant to the Antarctic Conservation Act of 1978 (16 U.S.C. 2401 et seq.) (“ACA”) regulates certain non-governmental activities in Antarctica. The ACA was amended in 1996 by the Antarctic Science, Tourism, and Conservation Act. On June 4, 1998, NSF published a proposed rule in the Federal Register (63 FR 30438) to implement certain of these statutory amendments. The proposed rule would require non-governmental Antarctic expeditions using non-U.S. flagged vessels to ensure that the vessel owner has an emergency response plan. The proposed rule would also require persons organizing a non-governmental expedition to provide expedition members with information on their environmental protection obligations under the Antarctic Conservation Act. The notice of proposed rule stated that the rule was not subject to the Paperwork Reduction Act because of the small number of U.S. operators subject to the rule. Based upon comments received on the proposed rule and the slight increase in applicable tour operators, NSF has determined that it will issue this information collection notice to satisfy the requirements of the Paperwork Reduction Act of 1995, prior to issuing the final rule.

Expected Respondents. Respondents may include non-profit organizations and small and large businesses. The majority of respondents are anticipated to be U.S. tour operators, currently estimated to number twelve.

Burden on the Public. The Foundation estimates that a one-time paperwork and recordkeeping burden of 40 hours or less, at a cost of $500 to $1400 per respondent, will result from the emergency response plan requirement contained in the proposed rule. Presently, all respondents have been providing expedition members with a copy of the Guidance for Visitors to the Antarctic (prepared and adopted at the Eighteenth Antarctic Treaty Consultative Meeting as Recommendation XVIII-1). Because this Antarctic Treaty System document satisfies the environmental protection information requirements of the proposed rule, no additional burden shall result from the environmental information requirements in the proposed rule.

Dated: April 18, 2001.
Lawrence Rudolph,
General Counsel.

[FR Doc. 01-13768 Filed 5-31-01; 8:45 am]

BILLING CODE 7555-01-M